DEPARTMENT OF HEALTH AND HUMAN SERVICES

Centers for Medicare & Medicaid Services

42 CFR Part 412

[CMS-1472-F]

RIN 0938-AL92

Medicare Program; Prospective Payment System for Long-Term Care Hospitals: Annual Payment Rate Updates and Policy Changes

Correction

In rule document 03-14078 beginning on page 34122 in the issue of Friday, June 6, 2003, make the following correction:

Due to numerous errors, Table 2 beginning on page 34181, is being reprinted in its entirety.

Table 2.—Long-Term Care Hospital Wage Index for Rural Areas for Discharges Occurring From July 1, 2003 through June 30, 2004
Nonurban Area | Full Wage Index ¹ | ⅕th Wage Index ² | ⅖th Wage Index ³
Alabama | 0.7660 | 0.9532 | 0.9064
Alaska | 1.2293 | 1.0459 | 1.0917
Arizona | 0.8493 | 0.9699 | 0.9397
Arkansas | 0.7666 | 0.9533 | 0.9066
California | 0.9899 | 0.9980 | 0.9960
Colorado | 0.9015 | 0.9803 | 0.9606
Connecticut | 1.2394 | 1.0479 | 1.0958
Delaware | 0.9128 | 0.9826 | 0.9651
Florida | 0.8827 | 0.9765 | 0.9531
Georgia | 0.8230 | 0.9646 | 0.9292
Hawaii | 1.0255 | 1.0051 | 1.0102
Idaho | 0.8747 | 0.9749 | 0.9499
Illinois | 0.8204 | 0.9641 | 0.9282
Indiana | 0.8755 | 0.9751 | 0.9502
Iowa | 0.8315 | 0.9663 | 0.9326
Kansas | 0.7900 | 0.9580 | 0.9160
Kentucky | 0.8079 | 0.9616 | 0.9232
Louisiana | 0.7580 | 0.9516 | 0.9032
Maine | 0.8874 | 0.9775 | 0.9550
Maryland | 0.8946 | 0.9789 | 0.9578
Massachusetts | 1.1288 | 1.0258 | 1.0515
Michigan | 0.9009 | 0.9802 | 0.9604
Minnesota | 0.9151 | 0.9830 | 0.9660
Mississippi | 0.7680 | 0.9536 | 0.9072
Missouri | 0.7881 | 0.9576 | 0.9152
Montana | 0.8481 | 0.9696 | 0.9392
Nebraska | 0.8204 | 0.9641 | 0.9282
Nevada | 0.9577 | 0.9915 | 0.9831
New Hampshire | 0.9839 | 0.9968 | 0.9936
New Jersey ⁴ |  |  |
New Mexico | 0.8872 | 0.9774 | 0.9549
New York | 0.8542 | 0.9708 | 0.9417
North Carolina | 0.8669 | 0.9734 | 0.9468
North Dakota | 0.7788 | 0.9558 | 0.9115
Ohio | 0.8613 | 0.9723 | 0.9445
Oklahoma | 0.7590 | 0.9518 | 0.9036
Oregon | 1.0259 | 1.0052 | 1.0104
Pennsylvania | 0.8462 | 0.9692 | 0.9385
Puerto Rico | 0.4356 | 0.8871 | 0.7742
Rhode Island ⁴ |  |  |
South Carolina | 0.8607 | 0.9721 | 0.9443
South Dakota | 0.7815 | 0.9563 | 0.9126
Tennessee | 0.7877 | 0.9575 | 0.9151
Texas | 0.7821 | 0.9564 | 0.9128
Utah | 0.9312 | 0.9862 | 0.9725
Vermont | 0.9345 | 0.9869 | 0.9738
Virginia | 0.8504 | 0.9701 | 0.9402
Washington | 1.0179 | 1.0036 | 1.0072
West Virginia | 0.7975 | 0.9595 | 0.9190
Wisconsin | 0.9162 | 0.9832 | 0.9665
Wyoming | 0.9007 | 0.9801 | 0.9603
¹ Pre-reclassification wage index from Federal FY 2003 based on fiscal year 1999 audited acute care hospital inpatient wage data that exclude wages for services provided by teaching physicians, residents, and nonphysician anesthetists under Part B of the Medicare program.
² One-fifth of the full wage index value, applicable for LTCH's cost reporting period beginning on or after October 1, 2002 through September 30, 2003 (Federal FY 2203). For example, for a LTCH's cost reporting period begins during Federal in FY 2003 and located in rural Illinois, the 1/5th of the wage index value is computed as (0.8204 + 4)/5 = 0.9641. For further details on the 5-year phase-in of the wage index, see section VI.C.1. of this final rule.
³ Two-fifths of the full wage index value, applicable for LTCH's cost reporting period beginning on or after October 1, 2003 through September 30, 2003 (Federal FY 2004). For example, for a LTCH's cost reporting period begins during Federal in FY 2004 and located in rural Illinois, the 2/5th of the wage index value is computed as ((2*0.8204) + 3))/5 = 0.9282. For further details on the 5-year phase-in of the wage index, see section VI.C.1. of this final rule.
⁴ All counties within the State are classified as urban.

[FR Doc. C3-14078 Filed 7-14-03; 8:45 am]

BILLING CODE 1505-01-D

DEPARTMENT OF THE INTERIOR

Minerals Management Service

30 CFR Part 250

RIN 1010-AD03

Oil and Gas and Sulphur Operations in the Outer Continental Shelf (OCS), Document Incorporated by Reference for Fixed Platforms

Correction

In rule document 03-17192 beginning on page 41077, in the issue of Thursday, July 10, 2003 make the following correction:

PART 250—[CORRECTED]

On page 41078, in the first column, amendatory instruction 2. is corrected to read as follows: “ In section 250.912 the first sentence of paragraph (a) is revised to read as follows:”.

[FR Doc. C3-17192 Filed 7-14-03; 8:45 am]

BILLING CODE 1505-01-D

DEPARTMENT OF TRANSPORTATION

Federal Aviation Administration

14 CFR Part 39

[Docket No. 2002-NM-317-AD; Amendment 39-13125;AD 2003-08-12]

RIN 2120-AA64

Airworthiness Directives; Bombardier Model CL-600-1A11 (CL-600), CL-600-2A12 (CL-601), and CL-600-2B16 (CL7-601-3A, CL-601-3R, and CL-604) Series Airplanes

Correction

In rule document 03-9690 beginning on page 19940 in the issue of Wednesday, April 23, 2003 make the following corrections:

§39.13 [Corrected]

1. On page 19944, in the first column, in §39.13, in the second table, the heading, “Table 5— Compliance Time for TLMCs” should read “Table—Compliance Time for TLMCs”.

2. On the same page, in the second column, in the same section, in the first table, the heading, “Table 5—Compliance Time for TLMCs—Continued” should read “Table—Compliance Time for TLMCs—Continued”.

3. On the same page, in the same column, in the same section, in the second table, the heading, “Table 6—IBR Alert Service Bulletins” should read “Table 5—IBR Alert Service Bulletins”.

4. On the same page, in the third column, in the same section, in the table, the heading, “Table 6—IBR Alert Service Bulletins—Continued” should read “Table 5—IBR Alert Service Bulletins—Continued”.

[FR Doc. C3-9690 Filed 7-14-03; 8:45 am]

BILLING CODE 1505-01-D